DEPARTMENT OF ENERGY

Federal Energy Regulatory Commission

[Docket No. ER01-2130-001, et al.]

Central Maine Power Company, et al.; Electric Rate and Corporate Regulation Filings

August 29, 2001.

Take notice that the following filings have been made with the Commission:

1. Central Maine Power Company

[Docket No. ER01-2130-001]

Take notice that on August 22, 2001, Central Maine Power Company (CMP), tendered for filing in compliance with the Federal Energy Regulatory Commission's (FERC or Commission) order issued July 23, 2001, in Docket No. ER01-2130-000 a “First Amendment to Filing,” which provides the information that the Commission requested in the July 23 Order.

Copies of this filing have been served on Calpine Construction Finance Company, L.P. and the State of Maine Public Utilities Commission.

Comment date: September 12, 2001, in accordance with Standard Paragraph E at the end of this notice.

2. Old Dominion Electric Cooperative

[Docket No. ER01-2331-000]

Take notice that on August 24, 2001, Old Dominion Electric Cooperative, tendered for filing with the Federal Energy Regulatory Commission (Commission) directive issued August 14, 2001, in the above referenced Docket No., original tariff sheets to comply with Order No. 614, FERC Stats. & Regs. ¶ 31,096 (2000).

Comment date: September 14, 2001, in accordance with Standard Paragraph E at the end of this notice.

3. Liberty Electric Power, LLC

[Docket No. ER01-2398-001]

Take notice that on August 20, 2001, Liberty Electric Power, LLC , which will own and operate a natural gas-fired electric generating facility in the Borough of Eddystone, Pennsylvania submitted for filing with the Federal Energy Regulatory Commission (Commission) its initial FERC Electric Tariff Volume No. 1, in compliance with the Commission's August 15, 2001 letter order, which will enable Liberty Electric to engage in the sale of electric energy and capacity and ancillary services at market-based rates.

Comment date: September 10, 2001, in accordance with Standard Paragraph E at the end of this notice.

4. Ameren Services Company

[Docket No. ER01-2920-000]

Take notice that on August 24, 2001, Ameren Services Company (Ameren Services), as agent for Central Illinois Public Service Company (d/b/a AmerenCIPS) and Union Electric Company (d/b/a AmerenUE), submitted an unexecuted service agreement for Network Integrated Transmission Service and an unexecuted Network Operating Agreement with the Rolla Municipal Utilities (Rolla), the customer under the proposed agreements. Ameren Services requests an effective date of January 1, 2001 for these agreements.

A copy of the filing was served upon Rolla and the affected state regulatory commissions.

Comment date: September 14, 2001, in accordance with Standard Paragraph E at the end of this notice.

5. Atlantic City Electric Company

[Docket No. ER01-2921-000]

Take notice that Atlantic City Electric Company (Atlantic), on August 22, 2001, tendered for filing the Service Agreement with Aquila Energy Marketing Corporation (Aquila) under the Wholesale Market-Based Rate FERC Tariff, Original Volume No. 5, Effective March 28, 2001 of Atlantic City Electric Company providing for Sales of Capacity, Energy and/or Ancillary Services and resale of Transmission Rights.

Copies of the filing were served upon Aquila.

Comment date: September 12, 2001, in accordance with Standard Paragraph E at the end of this notice.

6. WPS Resources Operating Companies

[Docket No. ER01-2924-000]

Take notice that on August 24, 2001, WPS Resources Operating Companies (WPSR), tendered for filing an unexecuted interconnection agreement and an unexecuted service agreement for ancillary and distribution services between its operating company, Wisconsin Public Service Corporation (WPSC) and Ag Environmental Solutions, LLC (AES). The interconnection agreement will establish the terms and conditions for interconnection service that WPSC will provide for a 750 kW generator owned by AES. The service agreement will permit AES to transmit the energy produced by its generator over WPSC's distribution system. WPSR requests waiver of the Commission's notice requirements to permit an effective date of the earlier of the date on which AES commits to be bound by the agreements as modified by the Commission or the date of the Commission's order.

Copies of the filing were served upon AES, Wisconsin Electric Power Company and the Public Service Commission of Wisconsin.

Comment date: September 14, 2001 in accordance with Standard Paragraph E at the end of this notice.

7. MidAmerican Energy Company

[Docket No. ER01-2925-000]

Take notice that on August 24, 2001, MidAmerican Energy Company (MidAmerican), filed with the Federal Energy Regulatory Commission (Commission) a Contract for Interconnection and Load Control Boundary Points with Western Area Power Administration, dated March 23, 2001, pertaining to the Sioux City 345 kV Point of Interconnection.

MidAmerican requests an effective date of January 1, 2001 for the Contract.

MidAmerican has served a copy of the filing on the Iowa Utilities Board, the Illinois Commerce Commission, the South Dakota Public Utilities Commission and the Western Area Power Administration.

Comment date: September 14, 2001, in accordance with Standard Paragraph E at the end of this notice.

8. Progress Energy, Inc. On behalf of Florida Power Corporation

[Docket No. ER01-2926-000]

Take notice that on August 24, 2001, Florida Power Corporation (FPC) filed a Service Agreement with Aquila Energy Marketing Corporation under FPC's Short-Form Market-Based Wholesale Power Sales Tariff (SM-1), FERC Electric Tariff No. 10.

FPC is requesting an effective date of August 6, 2001 for this Agreement.

A copy of this filing was served upon the Florida Public Service Commission.

Comment date: September 14, 2001, in accordance with Standard Paragraph E at the end of this notice.

9. Cinergy Services, Inc.

[Docket No. ER01-2927-000]

Take notice that on August 24, 2001, Cinergy Services, Inc. (Cinergy) tendered for filing a Market-Based Service Agreement under Cinergy's Market-Based Rate Tariff No. 9 (the Tariff) entered into between Cinergy and Reliant Energy Services, Inc. (RESI).

Cinergy and RESI are requesting an effective date of July 24, 2001.

Comment date: September 14, 2001, in accordance with Standard Paragraph E at the end of this notice.

10. Progress Energy Ventures, Inc.

[Docket No. ER01-2928-000]

Take notice that on August 24, 2001, Progress Energy Ventures, Inc. tendered for filing an application for authorization to sell power at market-based rates pursuant to section 205 of the Federal Power Act, 16 USC 824d (1994) and Part 35 of the Federal Energy Regulatory Commission's (Commission), Rules of Practice and Procedure, 18 CFR Part 35 (2000).

Comment date: September 14, 2001, in accordance with Standard Paragraph E at the end of this notice.

11. Progress Genco Ventures, LLC

[Docket No. ER01-2929-000]

Take notice that on August 24, 2001, Progress Genco Ventures tendered for filing an application for authorization to sell power at market-based rates pursuant to section 205 of the Federal Power Act, 16 USC § 824D (1994), and Part 35 of the Federal Energy Regulatory Commission's (Commission) Rules of Parctice and Procedure, 18 CFR Part 35 (2000).

Comment date: September 14, 2001, in accordance with Standard Paragraph E at the end of this notice.

12. Allegheny Energy Service Corporation on behalf of Allegheny Energy Supply Company, LLC

[Docket No. ER01-2930-000]

Take notice that on August 24, 2001, Allegheny Energy Service Corporation on behalf of Allegheny Energy Supply Company, LLC (Allegheny Energy Supply) filed Service Agreement Nos. 144 and 145 to add two new Customers to the Market Rate Tariff under which Allegheny Energy Supply offers generation services. Allegheny Energy Supply proposes to make service available as of January 1, 2002 to the Boroughs of South River and Milltown. Confidential treatment of information in the Service Agreement has been requested.

Copies of the filing have been provided to the New Jersey Board of Public Utilities and all parties of record.

Comment date: September 14, 2001, in accordance with Standard Paragraph E at the end of this notice.

13. Allegheny Energy Service Corporation on behalf of Allegheny Energy Supply Company, LLC

[Docket No. ER01-2931-000]

Take notice that on August 24, 2001, Allegheny Service corporation on behalf of Allegheny Energy Supply Company, LLC (Allegheny Energy Supply) tendered for filing Service Agreement Nos. 139 through 143 to add five new Customers to the Market Rate Tariff under which Allegheny Energy Supply offers generation services. Allegheny Energy Supply proposes to make service available as of June 1, 2002 to the Boroughs of Lavallette, Madison, Butler, Park Ridge and Pemberton. Confidential treatment of information in the Service Agreements has been requested.

Copies of the filing have been provided to the New Jersey Board of Public utilities and all parties of record.

Comment date: September 14, 2001, in accordance with Standard Paragraph E at the end of this notice.

14. Minnesota Power, Inc. and Superior Water, Light & Power Company

[Docket No. ER01-1013-000]

Take notice that on May 7, 2001, Minnesota Power, Inc. and Superior Water, Light & Power Company tendered for filing with the Federal Energy Regulatory Commission (Commission) signed Service Agreements for Non-Firm and Short-Term Point-to-Point Transmission Service with OTP Wholesale Marketing under its Transmission Service Agreement to satisfy its filing requirements under this tariff.

Comment date: September 19, 2001, in accordance with Standard Paragraph E at the end of this notice.

15. South Point Energy Center, LLC

[Docket No. ES01-41-000]

Take notice that on August 20, 2001, South Point Energy Center, LLC (South Point) submitted an application pursuant to section 204 of the Federal Power Act seeking authorization to issue securities and assume liabilities in connection with the sale and leveraged lease financing of the South Point Energy Center.

South Point also requests a waiver of the Commission's competitive bidding requirements and negotiated placement requirements at 18 CFR 34.2.

Comment date: September 19, 2001, in accordance with Standard Paragraph E at the end of this notice.

16. Alliance Companies, Ameren Corporation on behalf of: Union Electric Company, Central Illinois Public Service Company

American Electric Power Service Corporation on behalf of: Appalachian Power Company, Columbus Southern Power Company, Indiana Michigan Power Company, Kentucky Power Company, Kingsport Power Company, Ohio Power Company, Wheeling Power Company; Consumers Energy and Michigan Electric Transmission Company

Exelon Corporation on behalf of: Commonwealth Edison Company, Commonwealth Edison Company of Indiana, Inc.

FirstEnergy Corp. on behalf of: American Transmission Systems, Inc., The Cleveland Electric Illuminating Company, Ohio Edison Company, Pennsylvania Power Company, The Toledo Edison Company; The Detroit Edison Company and International Transmission Company; Virginia Electric and Power Company

[Docket Nos. RT01-88-005, ER99-3144-013, and EC99-80-013]

Take notice that on August 27, 2001, Alliance Companies, et al. tendered for filing with the Federal Energy Regulatory Commission (Commission) a compliance filing pursuant to the Commission's July 12, 2001 Order issued in the above-captioned proceedings.

Comment date: September 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22218 Filed 9-4-01; 8:45 am]

BILLING CODE 6717-01-P